DEPARTMENT OF TRANSPORTATION

Office of the Secretary of Transportation

[DOT Docket No. DOT-OST-2010-0074]

The Future of Aviation Advisory Committee (FAAC); Notice of Meeting

AGENCY: U.S. Department of Transportation, Office of the Secretary of Transportation.

ACTION: The Future of Aviation Advisory Committee (FAAC); Notice of Meeting.

SUMMARY: The U.S. Department of Transportation, Office of the Secretary of Transportation, announces the fifth meeting of the FAAC, which will be held in Washington, DC. This notice announces the date, time, and location of the meeting, which will be open to the public. The purpose of FAAC is to provide advice and recommendations to the Secretary of Transportation to ensure the competitiveness of the U.S. aviation industry and its capability to effectively manage the evolving transportation needs, challenges, and opportunities of the global economy.

DATES: The meeting will be held on December 15, 2010, from 9:30 a.m. to 3 p.m.

ADDRESSES: The meeting will be held at the offices of the Department of Transportation, 1200 New Jersey Avenue, SE., Washington, DC 20590, on the ground floor of the West Building Atrium located across the street from the Navy Yard (Green Line) Metro station.

Agenda: A copy of the detailed agenda will be posted at www.dot.gov/faac.

Public Access: The meeting is open to the public. (See below for registration instructions.)

Entering the DOT Headquarters Building:

• Admission will be at the New Jersey Avenue entrance only.

• A valid form of government issued ID with an expiration date is required.

• Only pre-registered attendees may attend the meeting.

• Check-in is from 8:45 a.m. to 9:30 a.m. Please arrive early for parking, security clearance, and escort to meeting room.

• Attendees must be screened and pass through a metal detector.

• No firearms are allowed in the building, including with protection detail.

• Special accessibility requirements should be noted at time of e-mail registration.

• There is no facility parking and parking at public parking lots is limited. Car-pooling or use of public transportation is recommended.

• Public Transportation information: The Navy Yard metro stop on the Green Line (at M Street and New Jersey Avenue, SE) is across the street from DOT's New Jersey Avenue entrance. There are several buses with stops nearby. See http://www.wmata.com for more information on trip planning.

Public Comments: Comments to the committee can also be made in writing in advance of the meeting. Comments received by close of business on December 10, 2010, will be used to inform the day's discussions. Written comments should address one or more of the five topics (competition, environment, finance, safety, and workforce/labor) that were published in the Federal Advisory Committee Charter at http://www.regulations.gov (Docket DOT-OST-2010-0074). You may file comments identified by the docket number DOT-OST-2010-0074 using any of the following methods:

• Federal eRulemaking Portal: Go to http://www.regulations.gov and follow the online instructions for submitting comments.

• Mail: Docket Management Facility, U.S. Department of Transportation, 1200 New Jersey Ave., SE., Room W12-140, Washington, DC 20590-0001.

• Hand Delivery or Courier: West Building Ground Floor, Room W12-140, 1200 New Jersey Ave., SE., between 9 a.m. and 5 p.m. ET, Monday through Friday, except Federal holidays.

• E-mail: In addition, you may send a written copy of your comments and questions to FAAC@dot.gov and include one of the following in the subject line when making your e-mail submission: “Financing,” “Safety,” “Environment,” “Workforce/Labor,” “Competition,” and/or “General comment.”

Registration

• Space is limited. Registration will be available first-come, first-serve. Once the maximum number of 250 registrants has been reached, registration will close. Requests to attend the meeting must be received by close of business on Monday, December 13.

• All foreign nationals must register and provide their date of birth and passport number and country of issue by Friday, December 10.

• Persons with disabilities who require special assistance should advise the Department at FAAC@dot.gov, under the subject line of “Special Assistance” of their anticipated special needs as early as possible.

• To register: Send an e-mail to FAAC@dot.gov with “Registration” in the subject line including the following information:

○ Last name, First name

○ Title (if any)

○ Company or affiliation (if any)

○ Address

○ Phone number

○ U.S. Citizen (Y/N)

○ E-mail address in order for us to confirm your registration

• The DOT Headquarters Building is a secure Federal facility.

• Lunch will be available for purchase on-site (cash only).

• An e-mail will be sent confirming your registration along with details on security procedures for entering the DOT Headquarters Building.

• There is no Internet access. Bringing computers into the building requires additional security screening.

SUPPLEMENTARY INFORMATION: This is the final advisory committee meeting. Members of the public may review the FAAC charter and minutes of FAAC meetings at http://www.regulations.gov in docket number DOT-OST-2010-0074 or the FAAC Web site at http://www.dot.gov/faac.

FOR FURTHER INFORMATION CONTACT: Pamela Hamilton, Designated Federal Officer, Future of Aviation Advisory Committee, 202-267-9677, FAAC@dot.gov.

Issued on: November 16, 2010.
Ray LaHood,
Secretary of Transportation.

[FR Doc. 2010-29608 Filed 11-23-10; 8:45 am]

BILLING CODE 4910-9X-P